DEPARTMENT OF DEFENSE

Office of the Secretary

[Transmittal No. 17-67]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-67 with attached Policy Justification and Sensitivity of Technology.

Dated: November 28, 2017.
Aaron Siegel,
Alternate OSD Federal Register Liaison Officer, Department of Defense.

BILLING CODE 5001-06-P

BILLING CODE 5001-06-C

Transmittal No. 17-67

Notice of Proposed Issuance of Letter of Offer Pursuant to Section 36(b)(1) of the Arms Export Control Act, as amended

(i) Prospective Purchaser: Government of Poland

(ii) Total Estimated Value:

Major Defense Equipment * | $ 6.8 billion
Other | $ 3.7 billion
Total | $10.5 billion

(iii) Description and Quantity or Quantities of Articles or Services under Consideration for Purchase: This is phase one of a two-phase program for an Integrated Air and Missile Defense (IAMD) Battle Command System (IBCS)—enabled Patriot Configuration-3+ with Modernized Sensors and Components consisting of:

Major Defense Equipment (MDE):

Four (4) AN/MPQ-65 Radar Sets

Four (4) Engagement Control Stations

Four (4) Radar Interface Units (RIU) Modification Kits

Sixteen (16) M903 Launching Stations adapted

Eighteen (18) Launcher Integrated Network Kits (LINKs) (includes two (2) spares)

Two hundred and eight (208) Patriot Advanced Capability-3 (PAC-3) Missile Segment Enhancement (MSE) Missiles

Eleven (11) PAC-3 MSE Test Missiles

IBCS Software

Six (6) Current Operations—IBCS Engagement Operations Centers (EOCs)

Six (6) Engagement Operations—IBCS EOCs

Two (2) Future Operations—IBCS EOCs

Fifteen (15) Integrated Fire Control Network (IFCN) Relays

Four (4) Electrical Power Plants (EPP) III

Five (5) Multifunctional Information Distribution Systems/Low Volume Terminals (MIDS/LVTs)

Non-MDE includes:

Also included with this request are communications equipment, tools and test equipment, range and test programs, support equipment, prime movers, generators, publications and technical documentation, training equipment, spare and repair parts, personnel training, Technical Assistance Field Team (TAFT), U.S. Government and contractor technical, engineering, and logistics support services, Systems Integration and Checkout (SICO), field office support, and other related elements of logistics and program support.

(iv) Military Department: Army

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: November 14, 2017

* As defined in Section 47(6) of the Arms Export Control Act.

POLICY JUSTIFICATION

Poland—Integrated Air and Missile Defense (IAMD) Battle Command System (IBCS)-enabled Patriot Configuration-3+ with Modernized Sensors and Components

The Government of Poland has requested to purchase phase one of a two-phase program for an Integrated Air and Missile Defense (IAMD) Battle Command System (IBCS) enabled Patriot Configuration-3+ with Modernized Sensors and Components consisting of four (4) AN/MPQ-65 radar sets, four (4) engagement control stations, four (4) Radar Interface Units (RIU) modification kits, sixteen (16) M903 Launching stations adapted, eighteen (18) Launcher Integrated Network Kits (LINKs) (includes two (2) spares), two hundred and eight (208) Patriot Advanced Capability-3 (PAC-3) Missile Segment Enhancement (MSE) missiles, eleven (11) PAC-3 MSE test missiles, IBCS software, two (2) future operations—IBCS Engagement Operations Centers (EOCs), six (6) current operations-IBCS EOCs, six (6) engagement operations-IBCS EOCs, fifteen (15) Integrated Fire Control Network (IFCN relays, four (4) Electrical Power Plants (EPP) III, and five (5) Multifunctional Information Distribution Systems/Low Volume Terminals (MIDS/LVTs). Also included with this request are communications equipment, tools and test equipment, range and test programs, support equipment, prime movers, generators, publications and technical documentation, training equipment, spare and repair parts, personnel training, Technical Assistance Field Team (TAFT), U.S. Government and contractor technical, engineering, and logistics support services, Systems Integration and Checkout (SICO), field office support, and other related elements of logistics and program support. The total estimated program cost is $10.5. billion.

This proposed sale will support the foreign policy and national security objectives of the United States by helping to improve the security of a NATO ally which has been, and continues to be an important force for political stability and economic progress in Europe. This sale is consistent with U.S. initiatives to provide key allies in the region with modern systems that will enhance interoperability with U.S. forces and increase security.

Poland will use the IBCS-enabled Patriot missile system to improve its missile defense capability, defend its territorial integrity, and deter regional threats. The proposed sale will increase the defensive capabilities of the Polish Military to guard against hostile aggression and shield the NATO allies who often train and operate within Poland's borders. Poland will have no difficulty absorbing this system into its armed forces.

The proposed sale of these missiles and equipment will not alter the basic military balance in the region.

The prime contractors will be Raytheon Corporation in Andover, Massachusetts, Lockheed-Martin in Dallas, Texas, and Northrop Grumman in Falls Church, Virginia. The purchaser requested offsets. At this time, offset agreements are undetermined and will be defined in negotiations between the purchaser and contractors.

Implementation of this proposed sale will require approximately 42 U.S. Government and 55 contractor representatives to travel to Poland for an extended period for equipment de-processing/fielding, system checkout, training, and technical and logistics support.

There will be no adverse impact on U.S. defense readiness as a result of this proposed sale.

Transmittal No. 17-67

Notice of Proposed Issuance of Letter of Offer Pursuant to Section 36(b)(1) of the Arms Export Control Act

Annex

Item No. vii

(vii) Sensitivity of Technology:

1. The Patriot Air Defense System contains classified CONFIDENTIAL hardware components, SECRET tactical software and CRITICAL/SENSITIVE technology. Patriot ground support equipment and Patriot missile hardware contain CONFIDENTIAL components and the associated launcher hardware is UNCLASSIFIED. Information on system performance capabilities, effectiveness, survivability, missile seeker capabilities, select software/software documentation and test data are classified up to and including SECRET. The items requested represent significant technological advances for Poland. The Patriot Air Defense System continues to hold a significant technology lead over other surface-to-air missile systems in the world.

2. The Patriot Air Defense System's sensitive/critical technology is primarily in the area of design and production know-how and primarily inherent in the design, development and/or manufacturing data related to certain components. The list of components is classified CONFIDENTIAL. For more information contact the PEO Missiles and Space Lower Tier Project Office.

3. The Integrated Air and Missile Defense (IAMD) Battle Command System (IBCS) contains classified SECRET tactical software, UNCLASSIFIED hardware components, a few classified SECRET hardware components and CRITICAL/SENSITIVE technology. Information on Integrated Fire Control (IFC) Network performance, Integrated System Requirements and Effectiveness, Common Command and Control Requirements and Performance, Precision of sensor, shelter, launcher, and Plug & Fight module time references, Detailed security device configurations, Cyber Security details, Distributed Track Management Processing, Distributed Control Management Processing, External Interface Data, IBCS Specifications, Critical Elements, Vulnerabilities and Weaknesses, and Test Data, Results, and Equipment are classified up to and including SECRET. The items requested represent significant technological advances for Poland Air and Missile Defense. The IBCS represents a technology lead over any other Air and Missile Defense (AMD) Command and Control (C2) system existing today.

4. The IBCS sensitive/critical technology is primarily in software. And also resides in the design, developments, and manufacturing of certain components. The list of components containing sensitive/critical technology is classified SECRET.

5. The loss of this hardware, software, documentation and/or data could permit development of information which may lead to a significant threat to future U.S. military operations. If an adversary were to obtain this sensitive technology, the missile system effectiveness could be compromised through reverse engineering techniques.

6. A determination has been made that Poland can provide substantially the same degree of protection for the sensitive technology being released as the U.S. Government. This proposed sale is necessary in furtherance of the U.S. foreign policy and national security objectives outlined in the Policy Justification.

7. All defense articles and services listed in this transmittal have been authorized for release and export to the Government of Poland.

[FR Doc. 2017-25996 Filed 12-1-17; 8:45 am]

BILLING CODE 5001-06-P